DEPARTMENT OF THE INTERIOR

Bureau of Land Management

[LLNML00000 L13300000.BY0000]

Notice of Extension of Temporary Closure to All Public Use on Public Land in Doña Ana County, NM

AGENCY: Bureau of Land Management, Interior.

ACTION: Notice.

SUMMARY: The Bureau of Land Management (BLM), Las Cruces District Office, is extending a temporary closure for an additional 2 years to all public use, including casual use, to protect persons, property, and public land and resources, and generally to provide for public safety. Specifically, the extension of the closure is needed to reduce or prevent the opportunity for damage to property, personal injury, or loss of life in the vicinity of the Community Pit No. 1 in Doña Ana County, New Mexico

DATES: This closure will be in effective from July 23, 2012 to July 22, 2014. During the closure period, the BLM will mitigate the safety issue in this area through reclamation of the site.

FOR FURTHER INFORMATION CONTACT: Edward Seum, Lands and Minerals Supervisor, BLM Las Cruces District Office, 1800 Marquess Street, Las Cruces, New Mexico 88005; or by telephone at 575-525-4300. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM published its original closure notice in the Federal Register on June 28, 2010 (76 FR 36677). The Las Cruces District Office has initiated the development of a reclamation plan to determine how the site will be reclaimed. However, this planning effort, the acquisition of funds, and the reclamation process itself will require additional time to complete.

The temporary closure and restrictions applicable to the closure are as follows:

1. The public land to be closed under this notice is described as:

New Mexico Principal Meridian

T. 22 S., R. 1 E.,

Sec. 19, SW¼NW¼SE¼, E½E½SW¼SW¼SE¼, E½SW¼SE¼, S½N½SE¼SE¼, S½SE¼SE¼, E½NW¼SW¼SE¼.

Containing 67.5 acres, more or less.

All public use, including casual use, is prohibited on this 67.5-acre parcel. Casual use is defined as any short-term, non-commercial activity which does not noticeably damage or disturb the public land, resources, or improvements. Closure of this parcel is a consequence of unsafe conditions related to past mining resulting in steep highwalls in excess of 150 feet, abrupt precipices and ledges, and loose unconsolidated walls of rock.

2. This closure does not affect the ability of local, State, or Federal officials in the performance of their duties in the area.

3. This Notice will be posted along the public roads where this closure is in effect.

4. The following persons are exempt from this closure order:

a. Federal, State, or local law enforcement officers while acting within the scope of their official duties; and

b. Any person who obtains, or currently is in possession of, an authorization or permit from the BLM for use of the land identified in this closure.

Violations of this closure and restrictions are punishable by fines not to exceed $1,000 and/or imprisonment not to exceed 1 year. These actions are taken to protect public health and safety.

The Las Cruces District Office has completed Environmental Assessment (EA) (DOI-BLM-NM-LCDO-2010-0086-EA) to close the pit to public use, evaluating the potential reclamation of the site, and analyzing the hazards to public health and safety until such time as reclamation of the site would be completed, or for 2 years, whichever is later.

Copies of this closure order and maps showing the location are available from the Las Cruces District Office, 1800 Marquess Street, Las Cruces, New Mexico 88005.

Authority: 43 CFR 8364.1 and 18 U.S.C. 3551.

Bill Childress,
District Manager, Las Cruces.

[FR Doc. 2012-17851 Filed 7-20-12; 8:45 am]

BILLING CODE 4310-VC-P